DEPARTMENT OF HEALTH AND HUMAN SERVICES

Centers for Disease Control and Prevention

Board of Scientific Counselors, National Center for Injury Prevention and Control (BSC, NCIPC)

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control (BSC, NCIPC or Board). This meeting is partially open to the public. There will be 15 minutes allotted for public comments at the end of the open session from 1:00 p.m. to 1:15 p.m., EDT.

DATES: The meeting will be held on August 23, 2022, from 11:00 a.m. to 1:15 p.m., EDT (OPEN); and from 1:30 p.m. to 4:30 p.m., EDT (CLOSED).

ADDRESSES: Open Session: Webinar, Atlanta, Georgia. All participants must register using the link provided to attend the open meeting: https://dceproductions.zoom.us/meeting/register/tZYtd-iurzIvHNDz3Nb2Kl4NqksXHAhcwZnV.

Closed Session: Teleconference.

FOR FURTHER INFORMATION CONTACT: Arlene Greenspan, DrPH, MPH, PT, Associate Director for Science, NCIPC, CDC, 4770 Buford Highway, NE, Mailstop S-1069, Atlanta, Georgia 30341; Telephone: (770) 488-1279; Email: ncipcbsc@cdc.gov.

SUPPLEMENTARY INFORMATION: Portions of the meeting referenced above will be closed to the public in accordance with provisions set forth in Section 552b(c)(4) and (6), Title 5 U.S.C., and the Determination of the Director, Strategic Business Initiatives Unit, Office of the Chief Operating Officer, CDC, pursuant to Public Law 92-463 (5 U.S.C. app. 2).

Purpose: The Board will: (1) conduct, encourage, cooperate with, and assist other appropriate public health authorities, scientific institutions, and scientists in the conduct of research, investigations, experiments, demonstrations, and studies relating to the causes and strategies related to the prevention of injury and violence; (2) assist States and other entities in preventing intentional and unintentional injuries and in promoting health and well-being; and (3) conduct and assist in research and control activities related to injury.

The BSC, NCIPC makes recommendations regarding policies, strategies, objectives, and priorities, and reviews progress toward injury and violence prevention. The Board provides advice on the appropriate balance of intramural and extramural research, and guidance on the needs, structure, progress, and performance of intramural programs. The Board also provides guidance on extramural scientific program matters, including the: (1) review of extramural research concepts for funding opportunity announcements; (2) conduct of Secondary Peer Review of extramural research grant applications, cooperative agreement applications, and contract applications received in response to funding opportunity announcements as they relate to the Center's programmatic balance and mission; (3) submission of secondary review recommendations to the Center Director of applications to be considered for funding support; (4) review of research portfolios; and (5) review of program proposals.

Matters To Be Considered: The open session of the meeting will include discussions on an NCIPC update on Motor Vehicle Injury Prevention Research Priorities and on an NCIPC presentation on new research priorities in Drowning Prevention Research. The closed session of the meeting will focus on the Secondary Peer Review of extramural research grant applications received in response to four (4) Notices of Funding Opportunities (NOFOs): (1) RFA-CE-22-009—“Rigorous Evaluation of Community-Level Substance Use and Overdose Prevention Frameworks that Incorporate ACE-Related Prevention Strategies”; (2) RFA-CE-22-010—“Rigorous Evaluation of Strategies to Prevent Overdose through Linking People with Illicit Substance Use Disorders to Recovery Support Services”; (3) RFA-CE-22-011—“Understanding Polydrug Use Risk and Protective Factors, Patterns, and Trajectories to Prevent Drug Overdose”; and (4) RFA-CE-22-013—“Rigorous Evaluation of Community-Centered Approaches for the Prevention of Community Violence.” Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-16335 Filed 7-28-22; 8:45 am]

BILLING CODE 4163-18-P